COMMITTEE FOR PURCHASE FROM PEOPLE WHO ARE BLIND OR SEVERELY DISABLED

Procurement List: Additions and Deletions

AGENCY: Committee for Purchase from People Who Are Blind or Severely Disabled.

ACTION: Additions to and Deletions from the Procurement List.

SUMMARY: This action adds to the Procurement List a product and service to be furnished by nonprofit agencies employing persons who are blind or have other severe disabilities, and deletes from the Procurement List a product and service previously furnished by such agencies.

DATES: Effective Date: November 18, 2007.

ADDRESSES: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail: CMTEFedReg@jwod.gov.

SUPPLEMENTARY INFORMATION:

Additions

On August 17 and August 24, 2007, the Committee for Purchase From People Who Are Blind or Severely Disabled published notice (72 FR 46207; 48610) of proposed additions to the Procurement List.

After consideration of the material presented to it concerning capability of qualified nonprofit agencies to provide the product and service and impact of the additions on the current or most recent contractors, the Committee has determined that the product and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 46-48c) in connection with the product and service proposed for addition to the Procurement List.

End of Certification

Accordingly, the following product and service are added to the Procurement List:

Product

Long Format Binder for FCCL

NSN: 7510-00-NSH-0118—Blue.

NSN: 7510-00-NSH-0119—Red.

Coverage: B-List for the broad Government requirements as specified by the General Services Administration.

NPA: Pueblo Diversified Industries, Inc., Pueblo, CO.

Contracting Activity: General Services Administration, Federal Supply Services, Region 2, New York, NY.

Service

Service Type/Location: Grounds Maintenance, U.S. Department of Agriculture—Agriculture Research Service, Southeastern Fruit & Tree Nut Research Laboratory (SEFTNRL), 21 Dunbar Road, Byron, GA.

NPA: NAMI-Central Georgia, Inc., Warner Robins, GA.

Contracting Activity: U.S. Department of Agriculture, Agriculture Research Service-SAA, Athens, GA.

Deletions

On August 24, 2007, the Committee for Purchase From People Who Are Blind or Severely Disabled published notice (72 FR 48611) of proposed deletions to the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products

SKILCRAFT SAVVY BK-14 H/D Degreasing Detergent

NSN: 7930-00-NIB-0144—SKILCRAFT SAVVY BK-14 H/D Degreasing Detergent—32 oz.

NSN: 7930-00-NIB-0145—SKILCRAFT SAVVY BK-14 H/D Degreasing Detergent—1 Gallon.

NSN: 7930-00-NIB-0146—SKILCRAFT SAVVY BK-14 H/D Degreasing Detergent—5 Gallon.

NSN: 7930-00-NIB-0147—SKILCRAFT SAVVY BK-14 H/D Degreasing Detergent—55 Gallon.

SKILCRAFT SAVVY BK-1260 G/P Disinfectant Detergent

NSN: 7930-00-NIB-0176—SKILCRAFT SAVVY BK-1260 G/P Disinfectant Detergent—32 oz.

NSN: 7930-00-NIB-0177—SKILCRAFT SAVVY BK-1260 G/P Disinfectant Detergent—1 gallon.

NSN: 7930-00-NIB-0178—SKILCRAFT SAVVY BK-1260 G/P Disinfectant Detergent—5 gallon.

NSN: 7930-00-NIB-0179—SKILCRAFT SAVVY BK-1260 G/P Disinfectant Detergent—55 gallon.

NPA: Susquehanna Association for the Blind and Visually Impaired, Lancaster, PA.

Contracting Activity: General Services Administration, Office Supplies & Paper Products Acquisition Ctr, New York, NY.

Services

Service Type/Location: Impressions Custom Printed Products Service, for General Services Administration, 26 Federal Plaza, New York, NY.

NPA: The Lighthouse for the Blind, Inc. Seattle, WA.

Contracting Activity: General Services Administration, Office Supplies & Paper Products Acquisition Ctr, New York, NY.

Kimberly M. Zeich,
Director, Program Operations.

[FR Doc. E7-20638 Filed 10-18-07; 8:45 am]

BILLING CODE 6353-01-P